DEPARTMENT OF TRANSPORTATION

Federal Aviation Administration

Notice of Intent To Rule on Request To Dispose 10.3 Acres of Land at Dillant-Hopkins Airport, Swanzey, NH

AGENCY: Federal Aviation Administration (FAA), DOT.

ACTION: Request for public comments.

SUMMARY: Notice is being given that the FAA is considering a request from the City of Keene to dispose of 10.3 acres of land at Dillant-Hopkins Airport, Swanzey, NH, under the provisions of 49 U.S.C. 47107(h)(2).

The land is no longer needed for aviation purposes and may be disposed of by the airport. Ninety percent of the proceeds will be returned to the Federal Aviation Administration and used for a future airport grant. The remaining ten percent will be remitted to the City of Keene and placed in the airport's operation and maintenance fund. An avigation easement will be placed over the property to ensure compatibility with airport operations and airspace protection.

DATES: Comments must be received on or before June 11, 2021.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Issued in Burlington, Massachusetts, on May 7, 2021.
Julie Seltsam-Wilps,
Deputy Director, ANE-600.

[FR Doc. 2021-10060 Filed 5-11-21; 8:45 am]

BILLING CODE P